DEPARTMENT OF TRANSPORTATION

Federal Aviation Administration

14 CFR Part 39

[Docket No. FAA-2011-0649; Directorate Identifier 2011-NM-076-AD; Amendment 39-16882; AD 2011-25-06]

RIN 2120-AA64

Airworthiness Directives; The Boeing Company Airplanes

AGENCY: Federal Aviation Administration (FAA), DOT.

ACTION: Final rule.

SUMMARY: We are adopting a new airworthiness directive (AD) for certain The Boeing Company Model MD-11 and MD-11F airplanes. This AD was prompted by a report that the rub strips attached to the horizontal stabilizer front spar access door location were manufactured improperly using anodized aluminum. This AD requires replacing the anodized rub strips with new alodined rub strips to prevent inadequate electrical bonding between the rub strips and the fuel access door, which can contribute to possible ignition of flammable fuel vapor in the tail fuel tank as a result of a lightning strike. We are issuing this AD to correct the unsafe condition on these products.

DATES: This AD is effective January 17, 2012.

The Director of the Federal Register approved the incorporation by reference of a certain publication listed in the AD as of January 17, 2012.

ADDRESSES: For service information identified in this AD, contact Boeing Commercial Airplanes, Attention: Data & Services Management, 3855 Lakewood Boulevard, MC D800-0019, Long Beach, California 90846-0001; phone: (206) 544-5000, extension 2; fax: (206) 766-5683; email: dse.boecom@boeing.com; Internet: https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Philip Kush, Aerospace Engineer, Propulsion Branch, ANM-140L, FAA, Los Angeles Aircraft Certification Office, 3960 Paramount Boulevard, Lakewood, California 90712-4137; phone: (562) 627-5263; fax: (562) 627-5210; email: philip.kush@faa.gov.

SUPPLEMENTARY INFORMATION:

Discussion

We issued a notice of proposed rulemaking (NPRM) to amend 14 CFR part 39 to include an AD that would apply to the specified products. That NPRM was published in the Federal Register on June 30, 2011 (76 FR 38332). That NPRM proposed to require replacing the anodized rub strips of the tail fuel tank access door with new alodined rub strips.

Revisions to AD Language

In the NPRM (76 FR 38332, June 30, 2011) we specified that this AD was prompted by a report that the rub strips of the tail fuel tank access door were manufactured improperly. We are revising the statement to more accurately reflect the location of the rub strips. We have revised the summary section and paragraph (e) of this AD accordingly.

Also, to more accurately describe the rub strips, we have revised paragraph (g) of this AD to state, “replace the anodized rub strips with new alodined rub strips.”

Comments

We gave the public the opportunity to participate in developing this AD. The following presents the comment received on the proposal and the FAA's response to the comment.

Request To Revise Part Number

UPS requested that Boeing revise the part number of the alodined rub strip specified in Boeing Special Attention Service Bulletin MD11-55-027, dated March 17, 2011. UPS stated that the existing anodized rub strip has the same part number as the new alodined rub strip, and this may cause confusion for the operators. UPS stated that changing the part number of the new alodined rub strip would prevent an anodized rub strip from being installed instead of the required alodined rub strip.

We disagree with the commenter's request to revise the part number of the alodined rub strip. Boeing has verified that prior to issuance of Boeing Special Attention Service Bulletin MD11-55-027, dated March 17, 2011, two alodined rub strips have been sold to the MD-11 operators. The rub strips are not part of the access door. They are riveted to the horizontal stabilizer front spar web and are not re-installable after drilling out rivets during replacement. Since only alodined rub strips are available and since the anodized rub strips are destroyed during removal, reinstalling anodized rub strips is not possible. We have determined that the only airplanes with anodized rub strips are the airplanes listed in the Applicability section of this AD. No change has been made to the AD in this regard.

Conclusion

We reviewed the relevant data, considered the comment received, and determined that air safety and the public interest require adopting the AD as proposed.

Costs of Compliance

We estimate that this AD affects 120 airplanes of U.S. registry.

We estimate the following costs to comply with this AD:

Estimated Costs
Action | Labor cost | Parts cost | Cost per product | Cost on U.S. operators
Replace rub strips | 32 work-hours × $85 per hour = $2,720 | $0 | $2,720 | $326,400

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-25-06 The Boeing Company: Amendment 39-16882; Docket No. FAA-2011-0649; Directorate Identifier 2011-NM-076-AD.

(a) Effective Date

This AD is effective January 17, 2012.

(b) Affected ADs

None.

(c) Applicability

The Boeing Company Model MD-11 and MD-11F airplanes, certificated in any category, as identified in Boeing Special Attention Service Bulletin MD11-55-027, dated March 17, 2011.

(d) Subject

Joint Aircraft System Component (JASC)/Air Transport Association (ATA) of America Code 5510: Horizontal stabilizer structure.

(e) Unsafe Condition

This AD was prompted by a report that the rub strips attached to the horizontal stabilizer front spar access door location were manufactured improperly using anodized aluminum. We are issuing this AD to prevent inadequate electrical bonding between the rub strips and the fuel access door, which can contribute to possible ignition of flammable fuel vapor in the tail fuel tank as a result of a lightning strike.

(f) Compliance

Comply with this AD within the compliance times specified, unless already done.

(g) Installation

Within 60 months after the effective date of this AD, replace the anodized rub strips with new alodined rub strips, in accordance with the Accomplishment Instructions of Boeing Special Attention Service Bulletin MD11-55-027, dated March 17, 2011.

(h) Alternative Methods of Compliance (AMOCs)

(1) The Manager, Los Angeles Aircraft Certification Office (ACO), Transport Airplane Directorate, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

For more information about this AD, contact Philip Kush, Aerospace Engineer, Propulsion Branch, ANM-140L, FAA, Los Angeles ACO, 3960 Paramount Boulevard, Lakewood, California 90712-4137; phone: (562) 627-5263; fax: (562) 627-5210; email: philip.kush@faa.gov.

(j) Material Incorporated by Reference

You must use the following service information to do the actions required by this AD, unless the AD specifies otherwise. The Director of the Federal Register approved the incorporation by reference (IBR) under 5 U.S.C. 552(a) and 1 CFR part 51 of the following service information on the date specified:

(1) Boeing Special Attention Service Bulletin MD11-55-027, dated March 17, 2011, approved for IBR January 17, 2012,

(2) For service information identified in this AD, contact Boeing Commercial Airplanes, Attention: Data & Services Management, 3855 Lakewood Boulevard, MC D800-0019, Long Beach, California 90846-0001; phone: (206) 544-5000, extension 2; fax: (206) 766-5683; email: dse.boecom@boeing.com; Internet: https://www.myboeingfleet.com.

(3) You may review copies of the referenced service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on November 23, 2011.
Ali Bahrami,
Manager, Transport Airplane Directorate, Aircraft Certification Service.

[FR Doc. 2011-31269 Filed 12-12-11; 8:45 am]

BILLING CODE 4910-13-P